DEPARTMENT OF TRANSPORTATION

Federal Railroad Administration

[Docket Number FRA-2014-0035]

Petition for Waiver of Compliance

In accordance with Part 211 of Title 49 Code of Federal Regulations (CFR), this document provides the public notice that by a document dated March 27, 2014, and an amended May 2, 2014, General Electric Transportation (GE) petitioned the Federal Railroad Administration (FRA) for a waiver of compliance from certain provisions of the Federal railroad safety regulations contained at 49 CFR Part 229, Railroad Locomotive Safety Standards. FRA assigned the petition Docket Number FRA-2014-0035.

Specifically, GE petitioned for a waiver of compliance from requirements of 49 CFR 229.129(b)(1), which requires each locomotive manufactured after September 18, 2006 (or a sampling of such locomotives), be tested for compliance with the sound level requirements for locomotive horns given in 49 CFR 229.129(a). The required testing method is defined in 49 CFR 229.129(c), which includes the allowable ambient conditions of temperature, humidity, and wind velocity given in 49 CFR 229.129(c)(6). GE is manufacturing 78 locomotives with a new horn design that require testing. Twenty locomotives are scheduled to be completed December 31, 2014, and additional locomotives soon after. GE is requesting a waiver to delay completion of horn testing until September 30, 2015, because the weather conditions in the winter months are not expected to be in the compliant range for horn testing. The requested waiver would allow these locomotives to enter service prior to horn testing. Five prototype locomotives of the same design have already been tested and found compliant.

A copy of the petition, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 17, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 27, 2014.
Robert C. Lauby,
Associate Administrator for Railroad Safety, Chief Safety Officer.

[FR Doc. 2014-12624 Filed 5-30-14; 8:45 am]

BILLING CODE 4910-06-P